DEPARTMENT OF THE TREASURY

Fiscal Service

Senior Executive Service; Financial Management Service Performance Review Board (PRB)

AGENCY: Financial Management Service, Fiscal Service, Treasury.

ACTION: Notice.

SUMMARY: This notice announces the appointment of members to the Financial Management Service (FMS) Performance Review Board (PRB).

DATES: This notice is effective on September 7, 2010.

FOR FURTHER INFORMATION CONTACT: Wanda J. Rogers, Deputy Commissioner, Financial Management Service, 401 14th Street, SW., Washington, DC; telephone (202) 874-7000.

SUPPLEMENTARY INFORMATION: Pursuant to 5 U.S.C. 4314(c)(4), this notice is given of the appointment of individuals to serve as members of the FMS PRB. This Board reviews the performance appraisals of career senior executives below the Assistant Commissioner level and makes recommendations regarding ratings, bonuses, and other personnel actions. Four voting members constitute a quorum. The names and titles of the FMS PRB members are as follows:

Primary Members

Wanda J. Rogers, Deputy Commissioner.

Kristine S. Conrath, Assistant Commissioner, Federal Finance.

Scott H. Johnson, Assistant Commissioner, Debt Management Services.

Linda S. Kimberling, Assistant Commissioner, Management (Chief Financial Officer).

Alfred J. Kopec, Assistant Commissioner, Business Architecture.

Sheryl R. Morrow, Assistant Commissioner, Payment Management.

David Rebich, Assistant Commissioner, Govermentwide Accounting.

Charles R. Simpson, Assistant Commissioner, Information Resources.

Dated: August 30, 2010.
Wanda J. Rogers,
Deputy Commissioner.

[FR Doc. 2010-21995 Filed 9-3-10; 8:45 am]

BILLING CODE 4810-35-M